DEPARTMENT OF TRANSPORTATION

Federal Aviation Administration

Notice of Intent to Rule on Request to Release Airport Property at Acadiana Regional Airport, New Iberia, LA.

AGENCY: Federal Aviation Administration (FAA), Department of Transportation.

ACTION: Notice of Request to Release Airport Property.

SUMMARY: The FAA proposes to rule and invites public comment on the release of land at Acadiana Regional Airport, New Iberia, Louisiana, under the provisions of Section 125 of the Wendell H. Ford Aviation Investment Reform Act for the 21st Century (AIR 21).

DATES: Comments must be received on or before June 9, 2003.

ADDRESSES: Comments on this application may be mailed or delivered to the FAA at the following address:

Mr. Lacey D. Spriggs, Manager, Federal Aviation Administration, Southwest Region, Airports Division, Louisiana/New Mexico Airports Development Office, ASW-640, Fort Worth, Texas 76193-0640.

In addition, one copy of any comments submitted to the FAA must be mailed or delivered to Mr. Robert Mouton, Airport Director, Acadiana Regional Airport, at the following address:

Mr. Robert Mouton, Airport Director, 5217 North South Taxi Road, New Iberia, LA 70560.

FOR FURTHER INFORMATION CONTACT: Mr. Michael J. Saupp, Program Manager, Federal Aviation Administration, LA/NM ADO, ASW-640, 2601 Meacham Blvd., fort Worth, Texas 76193-0640.

The request to release property may be reviewed in person at this same location.

SUPPLEMENTARY INFORMATION: The FAA invites public comment on the request to release property at the Acadiana Regional Airport, New Iberia, Louisiana, under the provisions of the AIR 21.

On April 25, 2003, the FAA determined that the request to release property at Acadiana Regional Airport submitted by the Iberia Parish Airport Authority met the procedural requirements of the Federal Aviation Regulations, Part 155. The FAA may approve the request, in whole or in part, no later than August 15, 2003.

The following is a brief overview of the request:

The Iberia Parish Airport Authority requests the release of 2.277 acres of airport property. The release of property will allow for an industrial development project to proceed. The sale is estimated to provide $50,000 for airport maintenance.

Any person may inspect the request in person at the FAA office listed above under FOR FURTHER INFORMATION CONTACT.

In addition, any person may, upon request, inspect the application, notice and other documents germane to the application in person at the Acadiana Regional Airport.

Issued in Fort Worth, Texas on April 29, 2003.
Naomi L. Saunders
Manager, Airports Division

[FR Doc. 03-11646 Filed 5-8-03; 8:45 am]

BILLING CODE 4910-13-M